DEPARTMENT OF TRANSPORTATION

Maritime Administration

46 CFR Part 315

[Docket No. MARAD 2008 0076]

RIN 2133-AB73

U.S. Citizenship for Contracts on RRF Vessels

AGENCY: Maritime Administration, Department of Transportation.

ACTION: Final rule.

SUMMARY: This rulemaking clarifies Maritime Administration regulations which require that Agents (including Ship Managers) for the National Defense Reserve Fleet (NDRF) appointed by the Maritime Administration be United States citizens.

DATES: Effective August 21, 2008.

FOR FURTHER INFORMATION CONTACT: Jay Gordon, Office of the Chief Counsel, at (202) 366-5173, via e-mail at Jay.Gordon@dot.gov, or by writing to: Jay Gordon, Office of the Chief Counsel, Maritime Administration, MAR-221, 1200 New Jersey Avenue, SE., Washington, DC 20590.

SUPPLEMENTARY INFORMATION:

Background

This rulemaking clarifies title 46 CFR part 315.5, Appointment of an Agent, which requires that Agents (including Ship Managers) for the National Defense Reserve Fleet (NDRF) appointed by the Maritime Administration be United States citizens, as defined in § 315.3(b). This action is taken on the Maritime Administration's initiative.

Under existing authority, the Department of Defense (DOD) transfers vessels to the custody of the Maritime Administration for inclusion in the NDRF. Pursuant to that authority, eight Fast Sealift Ships (FSS) are being transferred from the Military Sealift Command (MSC) into the Ready Reserve Force (RRF) component of the NDRF, effective October 1, 2008. The eight FSS vessels are currently operated by Maersk Lines Limited (MLL) under contract with MSC. Under the terms of this transfer, MSC has delegated procuring contracting officer authority for the FSS contract to the Maritime Administration, which will provide oversight and direction for the remainder of the contract. Since the transferred vessels are being maintained and operated under a contract awarded by another federal agency, administration of that contract does not constitute the appointment of an Agent by the Maritime Administration under 46 CFR part 315.5.

This regulation clarifies the limited duration of performance under such contracts.

Program Description

In this rulemaking, the Maritime Administration is clarifying the U.S. citizenship requirements for certain contacts between the owners of vessels in the RRF program of the NDRF and the Maritime Administration, by the addition of a new section to 46 CFR part 315.

Rulemaking Analyses and Notices

Executive Order 12866 and DOT Regulatory Policies and Procedures

This rulemaking is not significant under section 3(f) of Executive Order 12866, and as a consequence, OMB did not review the rule. This rulemaking is also not significant under the Regulatory Policies and Procedures of the Department of Transportation (44 FR 11034; February 26, 1979). It is also not considered a major rule for purposes of Congressional review under Public Law 104-121. We believe that the economic impact of this rulemaking does not warrant the preparation of a full regulatory evaluation since the rulemaking clarifies existing regulations set forth in 46 CFR part 315.

Executive Order 13132

We analyzed this rulemaking in accordance with the principles and criteria contained in Executive Order 13132 (“Federalism”) and have determined that it does not have sufficient federalism implications to warrant the preparation of a federalism summary impact statement. The regulations herein have no substantial effects on the States, the current Federal-State relationship, or the current distribution of power and responsibilities among local officials. Therefore, we did not consult with State and local officials because it was not necessary.

Regulatory Flexibility Act

The Regulatory Flexibility Act requires us to assess the impact that regulations will have on small entities. After analysis of this proposed rule, the Maritime Administrator certifies that this proposed rule will not have a significant economic impact on a substantial number of small entities.

Environmental Assessment

We have analyzed this rule for purposes of compliance with the National Environmental Policy Act of 1969 (NEPA) (42 U.S.C. 4321 et seq.) and we have concluded that, under the categorical exclusions provision in section 4.05 of Maritime Administrative Order (MAO) 600-1, “Procedures for Considering Environmental Impacts,” 50 FR 11606 (March 22, 1985), neither the preparation of an Environmental Assessment, an Environmental Impact Statement, nor a Finding of No Significant Impact for this rulemaking is required. This rulemaking will not result in any impact on the environment.

Paperwork Reduction Act

This rule does not establish a new requirement for the collection of information. Thus, the Office of Management and Budget (OMB) will not be requested to review and approve the information collection requirements under the Paperwork Reduction Act of 1995 (44 U.S.C. 3501, et seq.).

Unfunded Mandates Reform Act

This rulemaking does not impose unfunded mandates under the Unfunded Mandates Reform Act of 1995. It does not result in costs of $100 million or more to either State, local, or tribal governments, in the aggregate, or to the private sector, and is the least burdensome alternative that achieves this objective of U.S. policy. Department of Transportation guidance requires the use of a revised threshold figure of $136.1 million, which is the value of $100 million in 2008 after adjusting for inflation.

Consultation and Coordination With Indian Tribal Governments

Executive Order 13175—Consultation and Coordination with Indian Tribal Governments, dated November 6, 2000, seeks to establish regular and meaningful consultation and collaboration with tribal officials in the development of Federal policies that have tribal implications, to strengthen the United States government-to-government relationships with Indian tribes, and to reduce the imposition of unfunded mandates upon Indian tribes. Executive Order 13175 does not apply to this regulation as it does not affect, directly or indirectly, Indian tribes.

Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

Privacy Act

You may review DOT's complete Privacy Act Statement in the Federal Register published on April 11, 2000 (Volume 65, Number 70; Pages 19477-19478) or you may visit www.regulations.gov.

List of Subjects in 46 CFR Part 315

Government contracts, National defense, Vessels.

Accordingly, the Maritime Administration amends 46 CFR part 315 as follows:

PART 315—AGENCY AGREEMENTS AND APPOINTMENT OF AGENTS

1. The authority citation for part 315 continues to read as follows:

Authority: 50 U.S.C. App. 1744; 49 CFR 1.66.

2. Section 315.6 is added to read as follows:

§ 315.6 Transferred vessels and contracts.

The requirements of § 315.5(a)(1) shall not apply to a contractor managing vessels owned by the United States under a contract or contracts previously awarded by another Federal agency if the contract, and the vessels managed under such contract, are subsequently transferred to the Maritime Administration, provided the period of performance of the transferred contract does not exceed the period of performance of the original contract, including options.

By order of the Maritime Administrator.
Dated: August 14, 2008.
Leonard Sutter,
Secretary, Maritime Administration.

[FR Doc. E8-19255 Filed 8-20-08; 8:45 am]

BILLING CODE 4910-81-P